DEPARTMENT OF THE INTERIOR

National Park Service

National Register of Historic Places; Notification of Pending Nominations and Related Actions

Nominations for the following properties being considered for listing or related actions in the National Register were received by the National Park Service before October 8, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by November 9, 2005.

John W. Roberts,
Acting Chief, National Register/National Historic Landmarks Program.

Guam

Guam County

Asan Patriots of World War II Memorial, 142 Nino Perdido Dr., Asan, 05001242

Marine Drive Monument, Marine Dr., Hagatna, 05001243

Illinois

Champaign County

Alpha Phi Fraternity House—Beta Alpha Chapter, (Fraternity and Sorority Houses at the Urbana—Champaign Campus of the University of Illinois MPS) 508 E. Amory Ave., Champaign, 05001250

Georgian, The, 1005 S. Sixth St., Champaign, 05001260

Cook County

Anderson—Carlson Building, 2044-48 W. Farwell Ave., Chicago, 05001259

Pacesetter Gardens Historic District, 13604—13736 S. Lowe Ave., Riverdale, 05001252

Rogers Park Manor Bungalow Historic District, (Chicago Bungalows MPS) Roughly bounded by W. Lunt Ave., N. Western Ave., both sides of W. Farwell Ave. and N. California Ave., Chicago, 05001258

Jackson County

Murphysboro Elks Lodge, 1329 Walnut St., Murphysboro, 05001255

Lake County

Linn, Howard and Lucy, House, 555 Shoreacres Dr., Lake Bluff, 05001257

Swift, Louis F., House, 255 E. Foster Place, Lake Forest, 05001256

Peoria County

International Harvester Building, 1301-1309 Southwest Washington St., Peoria, 05001254

Randolph County

Shiloh College, 13043 Walnut St., Shiloh Hill, 05001251

Will County

Downtown Peotone Historic District, Roughly N. First St. and both sides of N. Second St., roughly bounded by the alley S of Main and N by North St., Peotone, 05001253

Kansas

Barton County

Hoisington High School, (Public Schools of Kansas MPS) 218 E 7th St., Hoisington, 05001248

Clark County

Ashland Grade School, (Public Schools of Kansas MPS) 210 W. 7th St., Ashland, 05001245

Comanche County

Protection High School, (Public Schools of Kansas MPS) 210 S. Jefferson, Protection, 05001244

Cowley County

Grace Methodist Episcopal Church, 320 College St., Winfield, 05001241

Douglas County

Saint Luke African Methodist Episcopal Church, 900 New York St., Lawrence, 05001240

McPherson County

Teichgraeber—Runbeck House, 116 Mill St., Lindsborg, 05001239

Phillips County

Agra Consolidated School, (Public Schools of Kansas MPS) 941 Kansas Ave., Agra, 05001246

Reno County

Sylvia Rural High School, (Public Schools of Kansas MPS) 203 Old KS 50, Sylvia, 05001247

Riley County

Riley County Courthouse, (County Courthouses of Kansas MPS) 100 Courthouse Plaza, Manhattan, 05001249

Wabaunsee County

Wabaunsee District #1 Grammar School, (Public Schools of Kansas MPS) 56 Center St., Wabaunsee, 05001238

Louisiana

St. John The Baptist Parish Our Lady of Grace Church, Near jct. of Airline Hwy. and 3rd St., Reserve, 05001277

Maryland

Harford County

Whiteford—Cardiff Historic District, MD-PA, Whiteford Rd., Platted Parry St., Quarry Rd., W of Main St., Whiteford, 05001278

Missouri

Jackson County

Grandview Residential Historic District, 807-1111 Highgrove Rd., 13016-13020 and 13019 Grandview Rd. and 13006-13018 10th St., Grandview, 05001284

St. Louis County

Cape, Dr. Leander W., Buildings, 7401-03 Hazel and 2737-47 Sutton, Maplewood, 05001283

St. Louis Independent City Centennial Malt House, 2017-19 Chouteau Ave., St. Louis (Independent City), 05001281

LaSalle Building, 501 Olive St., St. Louis (Independent City), 05001282

Selkirk, Ben J. and Sons, Building, 4160-4166 Olive St., St. Louis (Independent City), 05001280

Montana

Yellowstone County

Acme Building, 109-111 N. Broadway, Billings, 05001279

Nebraska

Gage County

Beatrice Municipal Auditorium, 205 N. 4th St., Beatrice, 05001293

Keith County

Welsch Motor Court—Erin Plaza Motor Court, 311 E. 1st St., Ogallala, 05001295

Pierce County

Fremont, Elkhorn and Missouri Valley Railroad Depot, 304 S. Main St., Plainview, 05001291

Richardson County

Schmid, Aldred and Magdalena, Farmstead, RR1, Dawson, 05001292

New Mexico

Bernalillo County

Tijeras Pueblo Archeological Site, Address Restricted, Tijeras, 05001294

New York

New York County

Greenwich Savings Bank, 1352-1362 Broadway, New York, 05001286

Park Row Building, 15 Park Row, New York, 05001287

Sheffield Farms Stable, 3229 Broadway, New York, 05001285

Wall and Hanover Building, 63 Wall St., New York, 05001288

Rhode Island

Kent County

Pawtuxet Valley Dyeing Company, 9 Howard Ave., Coventry, 05001296

Utah

Davis County

Ford, Joseph N. and Algie, House, (Centerville MPS) 1394 N. Main St., Centerville, 05001289

Weber County

American Can Company of Utah Building Complex, 2030 Lincoln Ave., Ogden City, 05001303

Virginia

Culpeper County

Graffiti House, (Civil War in Virginia MPS) 19484 Rd., Brandy Station, 05001274

Fauquier County

Casanova Historic District, Area inc. parts of Casanova Rd., Rogues Rd. and Weston Rd., Casanova, 05001264

Markham Historic District, Pts of E. John Marshall Hwy, Farm House Rd., Leeds Manor Rd., Old Markham Rd. Poverty Hollow Ln, Rail Stop Rd. etc., Markham, 05001261

Floyd County

Floyd Historic District, Centered along Main and Osford Sts. bet. Penn Ave., and Baker St. and Sweeney and Nira St., Floyd, 05001266

Grayson County

Brookside Farm and Mill, 4161 Wilson Hwy., Independence, 05001272

Henry County

Rock Run School, 532 John Baker Rd., Fieldale, 05001268

Nelson County

Black Meadow, 17379 Wolf Trap Dr., Gordonsville, 05001262

Orange County

Willston (068-0065), 13430 Constitution Hwy., Orange, 05001270

Richmond Independent city

Atlantic Moto Company (127-6163), 1840 W. Broad St., Richmond (Independent City), 05001271

Roanoke Independent city

Gainsboro Historic District, Bounded by Wells, Centre, 1st St. Bridge and Gilmer, Commonwealth, N. Jefferson and 2nd., Patton, Harrison etc., Roanoke (Independent City), 05001276

Rockbridge County

Falling Spring Presbyterian Church Manse, 650 Falling Spring Rd., Glasgow, 05001269

Springdale, 70 Gilmore Ln., Lexington, 05001273

Shenandoah County

Moore, J.W.R., House, 5588 Main St., Mount Jackson, 05001275

Virginia Beach Independent city

Seashore State Park Historic District, 2500 Shore Dr., Virginia Beach (Independent City), 05001267

Westmoreland County

Westmoreland State Park Historic District, 1650 State Park Rd., Montross, 05001265

Wise County

Virginia City Church, Bull Run Rd., St. Paul, 05001263

Wisconsin

Clark County

Calway, Forrest D. and Marian, House, 318 E. Fourth St., Neillsville, 05001297

Green County

Freitag Homestead, N7053 WI 69/39, Washington, 05001302

Monroe Water Tower, 16th Ave. and 20th St., Monroe, 05001290

Jefferson County

Fort Atkinson Water Tower, S. High and Fourth Sts., Fort Atkinson, 05001298

Richland County

Clipped Wing Eagle Mound, Address Restricted, Eagle, 05001300

Wisconsin

Richland County

Eagle Township Mound Group, Address Restricted, Eagle, 05001301

Hunting Eagle Mound, Address Restricted, Eagle, 05001299

A request for REMOVAL has been made for the following resource:

Arkansas

Polk County

Bee Mountain Fire Tower (Facilities Constructed by the CCC in Arkansas MPS) FS Rd. 30 NE of Vandervoort, Ouachita NF Vandervoort, 93001078

[FR Doc. 05-21225 Filed 10-24-05; 8:45 am]

BILLING CODE 4312-51-P